INTERNATIONAL TRADE COMMISSION

[Investigation No. 701-TA-665 (Final)]

Certain Mobile Access Equipment and Subassemblies Thereof From China; Determination

On the basis of the record ¹ developed in the subject investigation, the United States International Trade Commission (“Commission”) determines, pursuant to the Tariff Act of 1930 (“the Act”), that an industry in the United States is threatened with material injury by reason of imports of certain mobile access equipment and subassemblies thereof (“mobile access equipment”) from China, provided for in subheadings 8427.10.80, 8427.20.80, 8427.90.00, and 8431.20.00 of the Harmonized Tariff Schedule of the United States, that have been found by the U.S. Department of Commerce (“Commerce”) to be subsidized by the government of China.²

¹ The record is defined in § 207.2(f) of the Commission's Rules of Practice and Procedure (19 CFR 207.2(f)).

² 86 FR 57809 (October 19, 2021).

Background

The Commission instituted this investigation effective February 26, 2021, following receipt of a petition filed with the Commission and Commerce by the Coalition of American Manufacturers of Mobile Access Equipment (“CAMMAE” or “the Coalition”).³ The Commission scheduled the final phase of the investigation following notification of a preliminary determination by Commerce that imports of mobile access equipment from China were being subsidized within the meaning of section 703(b) of the Act (19 U.S.C. 1671b(b)). Notice of the scheduling of the final phase of the Commission's investigation and of a public hearing to be held in connection therewith was given by posting copies of the notice in the Office of the Secretary, U.S. International Trade Commission, Washington, DC, and by publishing the notice in the Federal Register of August 12, 2021 (86 FR 44402). In light of the restrictions on access to the Commission building due to the COVID-19 pandemic, the Commission conducted its hearing through written testimony and video conference on October 12, 2021. All persons who requested the opportunity were permitted to participate.

³ The Coalition is composed of JLG Industries, Inc. (“JLG”), Hagerstown, Maryland and Terex Corporation (“Terex”), Redmond, Washington.

The Commission made this determination pursuant to § 705(b) of the Act (19 U.S.C. 1671d(b)). It completed and filed its determination in this investigation on December 3, 2021. The views of the Commission are contained in USITC Publication 5242 (December 2021), entitled Certain Mobile Access Equipment and Subassemblies Thereof from China: Investigation No. 701-TA-665 (Final).

By order of the Commission.
Issued: December 3, 2021.
Lisa Barton,
Secretary to the Commission.

[FR Doc. 2021-26623 Filed 12-8-21; 8:45 am]

BILLING CODE 7020-02-P